DEPARTMENT OF HOUSING AND URBAN DEVELOPMENT

[Docket No. FR-5284-N-01]

Notice of Proposed Information Collection: Comment Request; Maintenance Wage Rate Recommendation, and Maintenance Wage Rate Survey; and Report of Additional Classification and Wage Rate

AGENCY: Office of Departmental Operations and Coordination, Office of Labor Relations, HUD.

ACTION: Notice.

SUMMARY: The proposed information collection requirement described below will be submitted to the Office of Management and Budget (OMB) for review, as required by the Paperwork Reduction Act. The Department is soliciting public comments on the subject proposal.

DATES: Comments Due Date: October 26, 2009.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 4178, Washington, DC 20410 or Lillian.L.Deitzer@hud.gov.

FOR FURTHER INFORMATION CONTACT: Jade Banks, Senior Policy Advisor, Office of Labor Relations, Department of Housing and Urban Development, 451 7th Street SW., Room 2102, Washington, DC 20410 or Jade.M.Banks@hud.gov, telephone (202) 402-5475 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Maintenance Wage Rate Recommendation; Maintenance Wage Rate Survey; Report of Additional Classification and Wage Rate.

OMB Control Number, if applicable: 2501-0011.

Description of the need for the information and proposed use: Public housing agencies (PHAs), Tribally-designated housing entities (TDHEs), and the Department of Hawaiian Homelands (DHHL) are required to ensure that maintenance laborers and mechanics employed in the operation of HUD-assisted low-income or affordable housing are paid no less than prevailing wages that are determined or adopted by HUD (section 12(a), U.S. Housing Act of 1937, as amended; sections 104(b) and 805(b) of the Native American Housing Assistance and Self-Determination Act of 1996, as amended). Except that, TDHEs may, at their discretion, implement tribally determined prevailing maintenance wage rates which would apply in place of HUD-determined or -adopted wage rates.

HUD determines or adopts a schedule of prevailing maintenance wage rates for each PHA, TDHE (except for those TDHEs that implement tribally-determined prevailing wage rates), and the DHHL, annually, coinciding with the agency's fiscal year. In order to ensure that the wage rates are reflective of current economic conditions, HUD requests that each PHA, TDHE and the DHHL submit a recommendation of prevailing wage rates for HUD consideration. PHA, TDHE, and DHHL recommendations may be based on a wide variety of economic indicators including, at the discretion of the PHA, TDHE, or DHHL, the results of a wage survey that the PHA, TDHE or DHHL may conduct of maintenance employers in their operating jurisdiction. In addition, HUD may conduct a maintenance wage rate survey in the absence of a PHA/TDHE/DHHL recommendation or to evaluate a recommendation that has been provided by a PHA, TDHE or DHHL.

In order to assist PHAs, TDHEs and the DHHL to submit prevailing wage rate recommendations and, if they choose, to conduct and evaluate the results of a maintenance wage survey, and to assist HUD personnel in the conduct and evaluation of a maintenance wage survey, HUD instituted three forms: Maintenance Wage Rate Recommendation; Maintenance Wage Rate Survey Summary; and a Maintenance Wage Rate Survey. PHA, TDHE or DHHL submission of a recommendation is highly encouraged by HUD. In the absence of an agency recommendation, HUD will issue a prevailing wage rate schedule based upon its own actions, which may include a maintenance wage survey conducted by HUD. Participation in any maintenance wage survey conducted by a PHA, TDHE, DHHL, or HUD is voluntary on the part of maintenance employers. Maintenance wage rate recommendations, survey summaries and survey responses must be retained by PHAs, TDHEs, the DHHL and HUD to document compliance with the statutory labor standards provisions.

Agencies, contractors and subcontractors engaged on HUD-assisted construction and maintenance projects subject to Federal labor standards must pay no less than the wages determined to be prevailing by the Secretary of Labor (for construction work) or determined to be prevailing by the Secretary of HUD (for maintenance work) to all laborers and mechanics engaged on such work. Occasionally, the applicable wage decision schedule does not contain a prevailing wage rate for all classifications of work needed to complete the project. In such cases, the employer that will utilize the classification(s) missing from the wage decision must propose a wage rate for each such classification for the consideration of the Department of Labor (DOL) or HUD, as the case may be. The employer must submit its request in writing; there is no form specified or required for employer submissions. HUD and local agencies that administer HUD-assisted projects use the form HUD-4230A to record and submit employer additional classification and wage rate requests to DOL, when DOL approval is required.

Agency form numbers, if applicable: Forms HUD-4750 for Maintenance Wage Rate Recommendation, HUD-4751 for Maintenance Wage Rate Survey, HUD-4752 Maintenance Wage Rate Survey Summary Sheet, and HUD-4230A for Report of Additional Classification and Wage Rate.

Estimation of the Total Numbers of Hours Needed to Prepare the Information Collection Including Number of Respondents, Frequency of Response, and Hours of Response
Item | Number of respondents | Amount of time required (hours) | Total time required/annum hours)
Maintenance Wage Recommendation | 3,400 | 4 | 13,600
Survey Summary | 1,800 | 4 | 7,200
Survey Form Agency Evaluation | 1,800 | 8 | 14,400
Survey Form Employer Response | 1,800 | 4 | 7,200
Record keeping | 3,400 | 1 | 3,400
Additional Classification and Wage Rate | 500 | 2 | 1,000
Recordkeeping | 500 | 1 | 500
Total Annual Burden |  |  | 47,300

Status of the proposed information collection: Extension of a currently approved collection.

Authority: The Paperwork Reduction Act of 1995, 44 U.S.C., Chapter 35, as amended.

Dated: August 14, 2009.
Waite H. Madison,
Director, Office of Labor Relations.

[FR Doc. E9-20601 Filed 8-25-09; 8:45 am]

BILLING CODE 4210-67-P